DEPARTMENT OF THE TREASURY

Office of Foreign Assets Control

31 CFR Parts 500 and 505

Foreign Assets Control Regulations; Transaction Control Regulations (Regulations Prohibiting Transactions Involving the Shipment of Certain Merchandise Between Foreign Countries)

AGENCY: Office of Foreign Assets Control, Treasury.

ACTION: Final rule.

SUMMARY: The Department of the Treasury's Office of Foreign Assets Control (“OFAC”) is removing parts 500 and 505 from 31 CFR chapter V pursuant to Proclamation 8271 of June 26, 2008, which terminated the exercise of the President's authorities under the Trading With the Enemy Act with respect to North Korea. Those authorities were implemented by 31 CFR parts 500 and 505.

DATES: Effective Date: June 20, 2011.

FOR FURTHER INFORMATION CONTACT: Assistant Director for Sanctions Compliance & Evaluation, tel.: 202/622-2490, Assistant Director for Licensing, tel.: 202/622-2480, Assistant Director for Policy, tel.: 202/622-4855, Office of Foreign Assets Control, or Chief Counsel (Foreign Assets Control), tel.: 202/622-2410, Office of the General Counsel, Department of the Treasury (not toll free numbers).

SUPPLEMENTARY INFORMATION:

Electronic and Facsimile Availability

This document and additional information concerning OFAC are available from OFAC's Web site http://www.treasury.gov/ofac). Certain general information pertaining to OFAC's sanctions programs also is available via facsimile through a 24-hour fax-on-demand service, tel.: 202/622-0077.

Background

On June 26, 2008, the President issued Proclamation 8271, “Termination of the Exercise of Authorities Under the Trading With the Enemy Act With Respect to North Korea” (73 FR 36785, June 27, 2008), effective at 12:01 a.m. eastern daylight time on June 27, 2008. In Proclamation 8271, the President found that the continuation of the exercise of authorities under the Trading With the Enemy Act (50 U.S.C. App. 1 et seq.) (“TWEA”) with respect to North Korea, as authorized in Proclamation 2914 of December 16, 1950 (15 FR 9029, December 19, 1950), and most recently continued under Presidential Determination 2007-32 of September 13, 2007 (72 FR 53407, September 18, 2007), was no longer in the national interest of the United States. Accordingly, in section 1 of Proclamation 8271, the President terminated the exercise of TWEA authorities with respect to North Korea, which were implemented by the Foreign Assets Control Regulations, 31 CFR part 500 (the “FACR”), and the Transaction Control Regulations, 31 CFR part 505 (the “TCR”), and rescinded Presidential Determination 2007-32 with respect to North Korea.

Section 2 of Proclamation 8271 authorized and directed the Secretary of the Treasury to take all appropriate measures within the Secretary's authority to give effect to the proclamation.

The only effective provisions in the FACR and TCR immediately prior to the issuance of Proclamation 8271 were those that related to North Korea. Since the issuance of Proclamation 8271, those regulations, to the extent promulgated under TWEA authorities, are no longer in force with respect to North Korea. In a separate final rule also being published today, OFAC is amending the North Korea Sanctions Regulations, 31 CFR part 510, to implement Executive Order 13570 of April 18, 2011, which prohibits the importation into the United States, directly or indirectly, of any goods, services, or technology from North Korea, unless otherwise authorized. As amended, the North Korea Sanctions Regulations will replace certain provisions of the FACR promulgated under sections 73 and 74 of the Arms Export Control Act (22 U.S.C. 2797b and 2797c), which were the only remaining effective provisions of the FACR. Accordingly, OFAC is removing the FACR and the TCR from 31 CFR chapter V.

Public Participation

Because the Regulations involve a foreign affairs function, the provisions of Executive Order 12866 and the Administrative Procedure Act (5 U.S.C. 553) requiring notice of proposed rulemaking, opportunity for public participation, and delay in effective date are inapplicable. Because no notice of proposed rulemaking is required for this rule, the Regulatory Flexibility Act (5 U.S.C. 601-612) does not apply.

List of Subjects

31 CFR Part 500

Administrative practice and procedure, Banking, Banks, Blocking of assets, Credit, Foreign trade, Imports, North Korea, Penalties, Reporting and recordkeeping requirements, Securities, Services.

31 CFR Part 505

Administrative practice and procedure, Banking, Banks, Blocking of assets, Credit, Foreign trade, North Korea, Penalties, Reporting and recordkeeping requirements, Securities, Services.

PARTS 500 AND 505—[REMOVED]

For the reasons set forth in the preamble, and under the authority of Proclamation 8271 of June 26, 2008, the Department of the Treasury's Office of Foreign Assets Control removes parts 500 and 505 from 31 CFR chapter V.

Dated: June 13, 2011.
Adam J. Szubin,
Director, Office of Foreign Assets Control, Department of the Treasury.

[FR Doc. 2011-15168 Filed 6-17-11; 8:45 am]

BILLING CODE 4810-AL-P